DEPARTMENT OF HOMELAND SECURITY

Coast Guard

33 CFR Part 117

[Docket No. USCG-2008-0108]

RIN 1625-AA09

Drawbridge Operation Regulations; Quinnipiac River, New Haven, CT

AGENCY: Coast Guard, DHS.

ACTION: Temporary final rule.

SUMMARY: The Coast Guard has temporarily changed the drawbridge operation regulations that govern the Ferry Street Bridge, mile 0.7, across the Quinnipiac River at New Haven, Connecticut. The Coast Guard published a temporary final rule on September 27, 2007, which allowed single leaf bridge openings through April 30, 2008, to facilitate bridge repairs. The Coast Guard was notified by the bridge owner that an eight day complete bridge closure would be necessary in order to complete the bridge repairs. As a result, a second temporary final rule is now necessary to allow the Ferry Street Bridge to remain completely closed for eight days in order to facilitate rehabilitation construction at the bridge.

DATES: This rule is effective from April 21, 2008 through April 28, 2008.

ADDRESSES: Documents indicated in this preamble as being available in the docket are part of docket USCG-2008-0108 and are available online at www.regulations.gov. They are also available for inspection or copying at two locations: the Docket Management Facility (M-30), U.S. Department of Transportation, West Building Ground Floor, Room W12-140, 1200 New Jersey Avenue SE., Washington, DC 20590, between 9 a.m. and 5 p.m., Monday through Friday, except Federal holidays, and the First Coast Guard District, Bridge Branch, One South Street, New York, NY 10004, between 9 a.m. and 5 p.m., Monday through Friday, except Federal holidays.

FOR FURTHER INFORMATION CONTACT: Ms. Judy Leung-Yee, Project Officer, First Coast Guard District, (212) 668-7195.

SUPPLEMENTARY INFORMATION:

Regulatory Information

We did not publish a notice of proposed rulemaking (NPRM) for this regulation.

Under 5 U.S.C. 553(b)(B), the Coast Guard finds that good cause exists for not publishing an NPRM. It would be impracticable, unnecessary, and contrary to public interest to publish an NPRM because the eight day bridge closure authorized by this rule is necessary in order to complete the bridge repairs necessary to insure the safe continued and reliable operation of this bridge.

Under 5 U.S.C. 553(d)(3) the Coast Guard also finds that good cause exists for making this rule effective less than 30 days after publication in the Federal Register. Any delay in making this rule effective would not be in the best interest of public safety and the marine interests that use the Quinnipiac River because failure to complete the necessary rehabilitation repairs would result in the bridge not being able to open for vessel traffic.

The Coast Guard contacted the waterway users and facilities that normally transit this bridge and no objections were received to the scheduled eight day bridge closure.

Background and Purpose

The Ferry Street Bridge, across the Quinnipiac River, mile 0.7, at New Haven, Connecticut, has a vertical clearance in the closed position of 25 feet at mean high water and 31 feet at mean low water. The existing regulations are listed at 33 CFR 117.213.

In early 2007, the Connecticut Department of Transportation requested a temporary deviation to facilitate scheduled structural repairs and bridge painting at the Ferry Street Bridge at New Haven, Connecticut. In order to perform the structural repairs, one bascule bridge span had to remain in the closed position while the other span could remain in the full open position at all times for the passage of vessel traffic.

As a result of the above request, the Coast Guard published a temporary deviation from the drawbridge operation regulations in the Federal Register (72 FR 18884), on April 16, 2007, in effect from April 16, 2007 through September 27, 2007.

On June 22, 2007, the Coast Guard was notified that the scheduled repairs authorized under the temporary deviation listed above would not be completed by the end of the effective period scheduled to end on September 27, 2007, and that work would continue through April 30, 2008.

As a result, the Coast Guard published a temporary final rule on September 27, 2007 (72 FR 54835), authorizing single leaf bridge openings from September 28, 2007 through April 30, 2008.

On February 13, 2008, the Coast Guard received notification from the bridge owner that an eight day bridge closure, from April 21, 2008 through April 28, 2008, would be necessary to complete the final phase of bridge repairs.

As a result of the above request, the Coast Guard is now publishing this second temporary final rule to allow the Ferry Street Bridge to remain in the fully closed position (both moveable spans) to complete the bridge rehabilitation repairs on April 28, 2008.

This temporary final rule will replace the temporary final rule published on September 27, 2007 and allow the Ferry Street Bridge to return to full operation on April 29, 2008.

Regulatory Evaluation

This rule is not a “significant regulatory action” under section 3(f) of Executive Order 12866, Regulatory Planning and Review, and does not require an assessment of potential costs and benefits under section 6(a)(3), of that Order. The Office of Management and Budget has not reviewed it under that Order.

This conclusion is based on the fact that the bridge closure will be of short duration and is necessary in order to restore the bridge to full operation.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations less than 50,000.

The Coast Guard certifies under 5 U.S.C. 605(b), that this rule will not have a significant economic impact on a substantial number of small entities.

This conclusion is based on the fact that the bridge closure is of short duration and is necessary to restore the bridge to full operation.

Assistance for Small Entities

Under section 213(a) of the Small Business Regulatory Enforcement Fairness Act of 1996 (Pub. L. 104-121), we offered to assist small entities in understanding the rule so that they could better evaluate its effects on them and participate in the rulemaking process.

No small entities requested Coast Guard assistance and none was given.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This final rule does not have tribal implications under Executive Order 13175, Consultation and Coordination with Indian Tribal Governments, because it does not have substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e), of the Instruction, from further environmental documentation considering that it relates to the promulgation of operating regulations or procedures for drawbridges. Under figure 2-1, paragraph (32)(e), of the instruction, an “Environmental Analysis Check List” and a “Categorical Exclusion Determination” are not required for this rule.

List of Subjects in 33 CFR Part 117

Bridges.

For the reasons set out in the preamble, the Coast Guard amends 33 CFR part 117 as follows:

PART 117—DRAWBRIDGE OPERATION REGULATIONS

1. The authority citation for part 117 continues to read as follows:

Authority: 33 U.S.C. 499; 33 CFR 1.05-1(g); Department of Homeland Security Delegation No. 0170.1.

2. From April 21, 2008 through April 28, 2008, § 117.213 is amended by suspending paragraph (a) and adding a temporary paragraph (g) to read as follows:

§ 117.213 New Haven Harbor, Quinnipiac and Mill Rivers.

* * * * *

(g) The draws shall open on signal; except as follows:

(1) From 7:30 a.m. to 8:30 a.m., noon to 12:15 p.m., 12:45 p.m. to 1 p.m., and 4:45 p.m. to 5:45 p.m., the draws need not be opened.

(2) The draw of the Ferry Street Bridge, mile 0.7, Quinnipiac River, at New Haven, may remain in the closed position from April 21, 2008 through April 28, 2008.

(3) From 11 p.m. to 7 a.m., the draw of the Grand Avenue Bridge, Quinnipiac River, shall open on signal if at least one hour notice is given to the tender at the Ferry Street Bridge. In the event that the tender is at the Chapel Street Bridge, a delay of up to an additional hour may be expected.

(4) From 9 p.m. to 5 a.m., the draw of the Chapel Street Bridge, Mill River, shall open on signal if at least one hour notice is given to the tender at Ferry Street Bridge. In the event the tender is at the Grand Avenue Bridge, a delay of up to an additional hour may be expected.

Dated: March 19, 2008.
Timothy V. Skuby,
Captain, U.S. Coast Guard, Acting Commander, First Coast Guard District.

[FR Doc. E8-6631 Filed 3-31-08; 8:45 am]

BILLING CODE 4910-15-P